DEPARTMENT OF THE TREASURY

Office of Foreign Assets Control

[Case IDs: CU-19766, CU-19767, CU-19699]

Notice of OFAC Sanctions Action

AGENCY: Office of Foreign Assets Control, Treasury.

ACTION: Notice.

SUMMARY: The U.S. Department of the Treasury's Office of Foreign Assets Control (OFAC) is publishing the identifying information of three entities that were added to OFAC's list of Specially Designated Nationals and Blocked Persons (SDN List).

DATES: See Supplementary Information section for applicable date(s).

FOR FURTHER INFORMATION CONTACT:

OFAC: Andrea Gacki, Director, tel.: 202-622-2490; Associate Director for Global Targeting, tel.: 202-622-2420; Assistant Director for Licensing, tel.: 202-622-2480; Assistant Director for Regulatory Affairs, tel.: 202-622-4855; or Assistant Director for Sanctions Compliance & Evaluation, tel.: 202-622-2490.

SUPPLEMENTARY INFORMATION:

Electronic Availability

The Specially Designated Nationals and Blocked Persons List and additional information concerning OFAC sanctions programs are available on OFAC's website (www.treasury.gov/ofac).

Notice of OFAC Action(s)

On December 17, 2020, OFAC determined that the property and interests in property subject to U.S. jurisdiction of the following entities are blocked under the relevant sanctions authority listed below.

Entities

1. KAVE COFFEE S.A. (a.k.a. KAVE COFFEE S A), Panama; Calle A No. 310 entre 3ra y 5ta, Municipio Playa, Havana, Cuba; RUC # 22044-123-197519 (Panama) [CUBA].

Identified pursuant to the Cuban Assets Control Regulations, 31 CFR part 515 (CACR), as meeting the definition of a Cuban national, a person whose property and interests in property are blocked pursuant to CACR.

2. FINANCIERA CIMEX S.A (a.k.a. FINCIMEX), Calle 8, Entre 3ra Y 5ta Ave, 319 Playa, Havana, Cuba; Panama; RUC # 12555-91-124494 (Panama) [CUBA].

Identified pursuant to the CACR as meeting the definition of a Cuban national, a person whose property and interests in property are blocked pursuant to CACR.

3. GRUPO DE ADMINISTRACION EMPRESARIAL S.A. (a.k.a. GAESA; a.k.a. “GRUPO GAE”), Edificio de la Marina, Avenida Del Puerto Y Brapia, Havana, Cuba; Organization Established Date 28 Feb 1999; Organization Type: Activities of holding companies [CUBA].

Identified pursuant to the CACR as meeting the definition of a Cuban national, a person whose property and interests in property are blocked pursuant to CACR.

Dated: December 17, 2020.
Andrea Gacki,
Director, Office of Foreign Assets Control, U.S. Department of the Treasury.

[FR Doc. 2020-28584 Filed 12-23-20; 8:45 am]

BILLING CODE 4810-AL-P